DEPARTMENT OF AGRICULTURE

Animal and Plant Health Inspection Service

9 CFR Part 93

[Docket No. APHIS-2009-0095]

RIN 0579-AD10

Importation of Sheep, Goats, and Certain Other Ruminants; Correction

AGENCY: Animal and Plant Health Inspection Service, USDA.

ACTION: Final rule; correction.

SUMMARY: The Animal and Plant Health Inspection Service recently issued a final rule that was published in the Federal Register on December 3, 2021. The rule amended the regulations governing the importation of animals and animal products to revise conditions for the importation of live sheep, goats, and certain other non-bovine ruminants, and products derived from sheep and goats, with regard to transmissible spongiform encephalopathies such as bovine spongiform encephalopathy and scrapie. The final rule improperly worded an amendatory instruction that resulted in the unintentional duplication of a sentence and left an obsolete section number in the regulations for the location of the requirements for the importation of sheep and goats from Canada for immediate slaughter. This document corrects that inadvertent error and amends the regulations with the proper wording.

DATES: This correction is effective January 3, 2022.

FOR FURTHER INFORMATION CONTACT: Dr. Alexandra MacKenzie, Veterinary Medical Officer, Strategy & Policy, VS, APHIS, 4700 River Road, Unit 39, Riverdale, MD 20737-1231; (301) 851-3300, option 2.

SUPPLEMENTARY INFORMATION: On December 3, 2021, we published a final rule (86 FR 68834-68864) ¹ that will be effective on January 3, 2022, and that revised the regulations governing the importation of animals and animal products to revise conditions for the importation of live sheep, goats, and certain other non-bovine ruminants, and products derived from sheep and goats, with regard to transmissible spongiform encephalopathies such as bovine spongiform encephalopathy and scrapie.

¹ To view the final rule, go to http://www.regulations.gov and enter APHIS-2009-0095 in the Search field.

The amendatory instruction to the Office of the Federal Register (OFR) for the revision to § 93.420 included an instruction to add a sentence after the heading for paragraph (a) introductory text. However, the instruction should have been to revise the first sentence after the heading of paragraph (a) introductory text.

By instructing the OFR to add a sentence after the heading of paragraph (a) introductory text as set forth in the rule, rather than revise the existing sentence, we inadvertently instructed the OFR to add a duplicative sentence and leave an obsolete section number in the regulations for the location of the requirements for the importation of sheep and goats from Canada for immediate slaughter. Our intention was to revise the first sentence after the heading for paragraph (a) introductory text and update the section where the requirements for the importation of sheep and goats from Canada for immediate slaughter could be found. Section 93.419 is currently listed in the regulations. However, the final rule removed and reserved § 93.419, and the sentence we added contains the new location of those requirements, which is § 93.435. Accordingly, this rule corrects our inadvertent error.

In FR Doc. 2021-26302 appearing on page 68834 in the Federal Register of December 3, 2021, the following correction is made:

§ 93.420 [Corrected]

On page 68859, in the first column, amendatory instruction number 10 is corrected to read as follows:

10. In § 93.420, revise the first sentence of paragraph (a) introductory text to read as follows:

§ 93.420 Ruminants from Canada for immediate slaughter other than sheep and goats.

(a) * * * The requirements for the importation of sheep and goats from Canada for immediate slaughter are contained in § 93.435. * * *

* * * * *

Done in Washington, DC, this 28th day of December 2021.
Michael Watson,
Acting Administrator, Animal and Plant Health Inspection Service.

[FR Doc. 2021-28413 Filed 12-30-21; 8:45 am]

BILLING CODE 3410-34-P